DEPARTMENT OF HEALTH AND HUMAN SERVICES

Administration for Children and Families

Statement of Organization, Functions and Delegation of Authority

Notice is hereby given that I delegate to the Director, Division of Unaccompanied Children's Services (DUCS), the DUCS Supervisory Program Specialist, DUCS Federal Field Specialists and DUCS Case Managers, the following authority delegated to the Director, Office of Refugee Resettlement (ORR), on April 1, 2009, by the Assistant Secretary for Children and Families under section 235 of the William Wilberforce Trafficking Victims Protection Reauthorization Act of 2008, Public Law 110-457:

(a) Authority Delegated

1. Authority under the William Wilberforce Trafficking Victims Protection Reauthorization Act of 2008, section 235(c)(2), to place an unaccompanied alien child in the least restrictive setting that is in the best interest of the child.

2. Authority under the William Wilberforce Trafficking Victims Protection Reauthorization Act of 2008, section 235(c)(3)(A) to place an unaccompanied alien child with a custodian upon determining that the proposed custodian is capable of providing for the child's physical and mental well-being. Such determination shall, at a minimum, include verification of the custodian's identity and relationship to the child and an independent finding that the custodian has not engaged in any activity that would pose a potential risk to the child.

(b) Limitations

1. This delegation shall be exercised under the Department's existing delegation of authority and policy on regulations.

2. This delegation shall be exercised under financial and administrative requirements applicable to all Administration for Children and Families authorities.

3. This delegation shall apply only to placement decisions made for unaccompanied Haitian children in the custody of ORR as a result of the January 12, 2010 earthquake in Haiti.

(c) Effective Date

This delegation of authority is effective on date of signature.

I hereby affirm and ratify any actions taken by the Director of the Division of Unaccompanied Children's Services, the DUCS Supervisory Program Specialist, DUCS Federal Field Specialists and DUCS Case Managers which, in effect, involved the exercise of these authorities prior to the effective date of this delegation.

Dated: February 2, 2010.
Eskinder Negash,
Director, Office of Refugee Resettlement.

[FR Doc. 2010-2785 Filed 2-8-10; 8:45 am]

BILLING CODE 4184-01-P